DEPARTMENT OF TRANSPORTATION

Federal Aviation Administration

Notice of Opportunity for Public Comment on a Proposed Change of Airport Property Land Use From Aeronautical to Non-Aeronautical Use at Shawnee Regional Airport, Shawnee, OK

AGENCY: Federal Aviation Administration (FAA), Transportation (DOT).

ACTION: Notice.

SUMMARY: The FAA is considering a request from the City of Shawnee, Oklahoma to change approximately 72 acres, located on the west side of the airport bordered by North Leo Street and West Independence Avenue, from aeronautical use to non-aeronautical use and to authorize the conversion of the airport property.

DATES: Comments must be received on or before May 13, 2022

ADDRESSES: Send comments on this document to Mr. Glenn Boles, Federal Aviation Administration, Arkansas/Oklahoma Airports District Office Manager, 10101 Hillwood Parkway, Fort Worth, TX 76177. Email: Glenn.A.Boles@faa.gov.

FOR FURTHER INFORMATION CONTACT: Ms. Bonnie Wilson, Airport Manager, Shawnee Regional Airport, 2202 Airport Drive, Shawnee, OK 74115, telephone (405) 878-1532. Email: Bonnie.Wilson@shawneeok.org; or Mr. Glenn Boles, Federal Aviation Administration, Arkansas/Oklahoma Airports District Office Manager, 10101 Hillwood Parkway, Fort Worth, TX 76177, telephone (817) 222-5639. Email: Glenn.A.Boles@faa.gov.

Documents reflecting this FAA action may be reviewed at the above locations.

SUPPLEMENTARY INFORMATION: The proposal consists of 72 acres comprised of portions of seven tracts of land, which were originally purchased by the City of Shawnee. No federal funds were used to purchase these properties. The Airport was leased to the United States between the years of 1943 and 1947. Under the provisions of the Surplus Property Act of 1944, the leased property was transferred back to the City in January 1946. No improvements were made by the United States to these tracts during the lease.

The land comprising these parcels is outside the forecasted need for aviation development and is not needed for indirect or direct aeronautical use. The Airport wishes to develop this land for compatible non-aeronautical use. The Airport will retain ownership of this land and ensure the protection of Part 77 surfaces and compatible land use. The income from the conversion of these parcels will benefit the aviation community by reinvestment in the airport.

Approval does not constitute a commitment by the FAA to financially assist in the conversion of the subject airport property nor a determination of eligibility for grant-in-aid funding from the FAA. The disposition of proceeds from the conversion of the airport property will be in accordance with FAA's Policy and Procedures Concerning the Use of Airport Revenue, published in the Federal Register on February 16, 1999. In accordance with section 47107(h) of Title 49, United States Code, this notice is required to be published in the Federal Register 30 days before modifying the land-use assurance that requires the property to be used for an aeronautical purpose.

Issued in Fort Worth, TX.
Ignacio Flores,
Director, Airports Division, FAA, Southwest Region.

[FR Doc. 2022-07902 Filed 4-12-22; 8:45 am]

BILLING CODE 4910-13-P